DEPARTMENT OF TRANSPORTATION

Office of the Secretary

Aviation Proceedings, Agreements Filed the Week Ending February 23, 2007

The following Agreements were filed with the Department of Transportation under the Sections 412 and 414 of the Federal Aviation Act, as amended (49 U.S.C. 1383 and 1384) and procedures governing proceeding to enforce these provisions. Answers may be filed within 21 days after the filing of the application.

Docket Number: OST-2007-27366.

Date Filed: February 20, 2007.

Parties: Members of the International Air Transport Association.

Subject: TC12 Mexico-Europe, Resolutions and Specified Fares Tables (Memo 0086); Intended effective date: April 1, 2007.

Docket Number: OST-2007-27367.

Date Filed: February 20, 2007.

Parties: Members of the International Air Transport Association.

Subject: TC12 South Atlantic-Europe, Resolutions and Specified Fares Tables (Memo 0148); Intended effective date: April 1, 2007.

Docket Number: OST-2007-27368.

Date Filed: February 20, 2007.

Parties: Members of the International Air Transport Association.

Subject: TC12 Mid Atlantic-Europe, Resolutions and Specified Fares Tables (Memo 0114); Intended effective date: April 1, 2007.

Docket Number: OST-2007-27375.

Date Filed: February 20, 2007.

Parties: Members of the International Air Transport Association.

Subject: PAC1/2/3 (Mail A134), Reinstatement Provision in Resolution 800f; Intended effective date: March 1, 2007.

Docket Number: OST-2007-27377.

Date Filed: February 20, 2007.

Parties: Members of the International Air Transport Association.

Subject: PAC1/2/3 (Mail A135), Disputes and Withdrawal of Disputes in Resolution, 818 AttA & 832; Intended effective date: March 1, 2007.

Renee V. Wright,
Program Manager, Docket Operations, Federal Register Liaison.

[FR Doc. E7-4076 Filed 3-6-07; 8:45 am]

BILLING CODE 4910-9X-P